CONSUMER PRODUCT SAFETY COMMISSION

Sunshine Act Meetings

FEDERAL REGISTER CITATION OF PREVIOUS ANNOUNCEMENT: Vol. 76, No. 63, Friday, April 1, 2011, pages 18189-18190.

ANNOUNCED TIME AND DATE OF MEETING: Wednesday, April 6, 2011, 10 a.m.-11 a.m.

MEETING CANCELED.

For a recorded message containing the latest agenda information, call (301) 504-7948.

CONTACT PERSON FOR ADDITIONAL INFORMATION: Todd A. Stevenson, Office of the Secretary, 4330 East West Highway, Bethesda, MD 20814 (301) 504-7923.

Dated: April 5, 2011.
Todd A. Stevenson,
Secretary.

[FR Doc. 2011-8482 Filed 4-6-11; 11:15 am]

BILLING CODE 6355-01-P